DEPARTMENT OF LABOR

Occupational Safety and Health Administration

[Docket No. OSHA-2007-0042]

Canadian Standards Association; Reinstated Recognition for Product Test Standard

AGENCY: Occupational Safety and Health Administration (OSHA), Labor.

ACTION: Reinstating recognition for product test standard.

SUMMARY: This notice announces the Occupational Safety and Health Administration's continued recognition of the Canadian Standards Association for a test standard.

DATES: Recognition for the reinstated standard is effective July 3, 2001.

FOR FURTHER INFORMATION CONTACT: MaryAnn Garrahan, Director, Office of Technical Programs and Coordination Activities, NRTL Program, Occupational Safety and Health Administration, U.S. Department of Labor, 200 Constitution Avenue, NW., Room N-3655, Washington, DC 20210, or phone (202) 693-2110. Our Web page includes information about the NRTL Program (see http://www.osha.gov and select “N” in the site index).

SUPPLEMENTARY INFORMATION:

Notice of Correction

The Canadian Standards Association (CSA) was recognized by OSHA as a Nationally Recognized Testing Laboratory on December 24, 1992 (57 FR 61452). The notice which announced this recognition included a list of test standards that became part of CSA's scope of recognition. In general, NRTLs use such test standards to test and certify products that OSHA requires to be approved before use in the workplace. One of the test standards included in CSA's initial scope was UL 1563, which is now titled Electric Spas, Equipment Assemblies, and Associated Equipment. At the time, its title was Electric Hot Tubs, Spas, and Associated Equipment. In compliance with its regulations, OSHA renewed CSA's recognition on July 3, 2001 (66 FR 35271). OSHA, however, inadvertently omitted UL 1563 from the Federal Register notice published for the CSA renewal. As a result, OSHA is reinstating UL 1563 to CSA's scope of recognition. CSA's capability to test and certify products to this standard has existed since the time of its recognition in December 1992.

This reinstatement is the only change that OSHA is making to CSA's recognition through this notice. All other terms and conditions of its recognition remain the same.

Signed at Washington, DC, this 10th day of October 2008.
Edwin G. Foulke, Jr.,
Assistant Secretary of Labor for Occupational Safety and Health.

[FR Doc. E8-24566 Filed 10-15-08; 8:45 am]

BILLING CODE 4510-26-P